ENVIRONMENTAL PROTECTION AGENCY

[FRL-9945-25-OW]

Notice of Charter Renewal

AGENCY: Environmental Protection Agency (EPA).

ACTION: Notice.

SUMMARY: The Charter for the Environmental Protection Agency's Environmental Financial Advisory Board (EFAB) will be renewed for an additional two-year period, as a necessary committee which is in the public interest, in accordance with the provisions of the Federal Advisory Committee Act (FACA), 5 U.S.C. App. 2. The purpose of EFAB is to provide advice and recommendations to the Administrator of EPA on issues associated with environmental financing. It is determined that EFAB is in the public interest in connection with the performance of duties imposed on the Agency by law.

Inquiries may be directed to Vanessa Bowie, Center for Environmental Finance, U.S. EPA, William Jefferson Clinton Federal Building, 1200 Pennsylvania Ave. NW., Washington, DC 20460 (Mailcode 4201T), Telephone (202) 564-5186, or bowie.vanessa@epa.gov.

Andrew D. Sawyers,
Director, Office of Wastewater Management, Office of Water.

[FR Doc. 2016-09023 Filed 4-18-16; 8:45 am]

BILLING CODE 6560-50-P